FEDERAL MARITIME COMMISSION

Notice of Request for Public Comments Regarding Extensions to Existing OMB Clearances

AGENCY: Federal Maritime Commission.

ACTION: Notice.

SUMMARY: The Federal Maritime Commission (FMC or Commission) is preparing submissions to the Office of Management and Budget (OMB) for continued approval of the following information collections (extensions with no changes) under the provisions of the Paperwork Reduction Act of 1995, as amended: OMB No. 3072-0012 (Security for the Protection of the Public and Related Application Form FMC-131, Application for a Certificate of Financial Responsibility); OMB No. 3072-0018 (Licensing, Financial Responsibility Requirements and General Duties for Ocean Transportation Intermediaries and FMC Form 18); OMB No. 3072-0045 (Ocean Common Carrier and Marine Terminal Operator Agreements Subject to the Shipping Act of 1984); OMB No. 3072-0060 (Controlled Carriers); OMB No. 3072-0061 (Marine Terminal Operator Schedules and Related Form FMC-1); OMB No. 3072-0064 (Carrier Automated Tariff Systems and Related Form FMC-1); and OMB No. 3072-0065 (Service Contracts). Comments submitted in response to this notice will be summarized and/or included in the request for OMB approval and will become a matter of public record.

DATES: Comments must be submitted on or before May 6, 2002.

ADDRESSES: Send comments to: Austin L. Schmitt, Deputy Executive Director, Federal Maritime Commission, 800 North Capitol Street, NW., Washington, DC 20573, (Telephone: (202) 523-5800), AustinS@fmc.gov.

FOR FURTHER INFORMATION CONTACT: Send requests for copies of the current OMB clearances to: George D. Bowers, Director, Office of Information Resources Management, Federal Maritime Commission, 800 North Capitol Street, NW., Washington, DC 20573, (Telephone: (202) 523-5835, George@fmc.gov, or visit our Website at http://www.fmc.gov.

SUPPLEMENTARY INFORMATION: OMB Approval Number: 3072-0012 (Expires May 31, 2002).

Abstract: Sections 2 and 3 of Public Law 89-777 (46 U.S.C. app. 817(d) and (e)) require owners or charterers of passenger vessels with 50 or more passenger berths or stateroom accommodations and embarking passengers at United States ports and territories to establish their financial responsibility to meet liability incurred for death or injury to passengers and other persons, and to indemnify passengers in the event of nonperformance of transportation. The Commission's Rules at 46 CFR part 540 implement Public Law 89-777 and specify financial responsibility coverage requirements for such owners and charterers.

Needs and Uses: The information will be used by the Commission's staff to ensure that passenger vessel owners and charterers have evidenced financial responsibility to indemnify passengers and others in the event of nonperformance or casualty.

Frequency: This information is collected when applicants apply for a certificate or when existing certificants change any information in their application forms.

Type of Respondents: The types of respondents are owners, charterers and operators of passenger vessels with 50 or more passenger berths that embark passengers from U.S. ports or territories.

Number of Annual Respondents: The Commission estimates an annual respondent universe of 60.

Estimated Time Per Response: The time per response ranges from .5 to 6 hours for complying with the regulations and 8 hours for completing Application Form FMC-131. The total average time for both requirements for each respondent is 34.66 person-hours.

Total Annual Burden: The Commission estimates the total person-hour burden at 2,080 person-hours.

OMB Approval Number: 3072-0018 (Expires August 31, 2002).

Abstract: Section 19 of the Shipping Act of 1984, 46 U.S.C. app. 1718, provides that no person in the United States may act as an ocean transportation intermediary (OTI) unless that person holds a license issued by the Commission. The Commission shall issue an OTI license to any person that the Commission determines to be qualified by experience and character to act as an OTI. Further, no person may act as an OTI unless that person furnishes a bond, proof of insurance or other surety in a form and amount determined by the Commission to insure financial responsibility. The Commission has implemented the provisions of section 19 in regulations contained in 46 CFR part 515, including financial responsibility forms FMC-48, FMC-67, FMC-68, and FMC-69, and its related license application form, FMC-18.

Needs and Uses: The Commission uses information obtained from Form FMC-18, as well as information contained in the Commission's files and letters of reference, to determine whether an applicant meets the requirements for a license. If the collection of information were not conducted, there would be no basis upon which the Commission could determine if applicants are qualified for licensing.

Frequency: This information is collected when applicants apply for a license or when existing licensees change certain information in their application forms.

Type of Respondents: Persons desiring to obtain a license to act as an OTI.

Number of Annual Respondents: The Commission estimates an annual respondent universe of 3,450.

Estimated Time Per Response: The time per response for completing Application Form FMC-18 averages 1.5 hours.

Total Annual Burden: The Commission estimates the total person-hour burden at 5,175 person-hours.

OMB Approval Number: 3072-0045 (Expires August 31, 2002).

Abstract: The Shipping Act of 1984, 46 U.S.C. app. 1701 et seq., requires certain classes of agreements between and among ocean common carriers and marine terminal operators to be filed with the Commission, specifies the mandatory content of those agreements, and defines the Commission's authorities and responsibilities in overseeing those agreements. 46 CFR 535 establishes the form and manner for filing agreements and for the underlying commercial data necessary to evaluate agreements.

Needs and Uses: Under its pre-effectiveness review process, the Commission reviews agreement filings to determine statutory and regulatory compliance, as well as to assess any anti-competitive impact the agreement may have. After agreements become effective, the Commission continues to monitor agreement activities to ensure continued statutory and regulatory compliance. To accomplish this, the Commission continuously gathers, reviews, and interprets commercial data regarding the impact of agreements on competition, prices, and service in the U.S. foreign trades.

Frequency: The Commission has no control over how frequently agreements are entered into; this is solely a matter between the negotiating parties. When parties do reach an agreement that falls within the jurisdiction of the Commission, that agreement must be filed with the Commission. Ongoing surveillance of agreement activities is conducted through the review of minutes and quarterly monitoring reports filed by certain types of agreements the Commission has identified as having greater potential effects on competition.

Type of Respondents: Parties that enter into agreements subject to the Commission's oversight are ocean common carriers and marine terminal operators operating in the U.S. foreign trades.

Number of Annual Respondents: Over the last five years the Commission has averaged 362 agreement filings a year from an estimated potential universe of 682 regulated entities. Starting in 1996, certain agreements were required to file quarterly monitoring reports under these regulations. The number of annual respondents under this program will vary according to the number of agreements subject to the reporting obligation. Last year, agreements subject to the monitoring report requirements filed 221 reports.

Estimated Time Per Response: It is estimated that the time for preparing and filing an agreement ranges anywhere from as little as three person-hours to as much as 150 person-hours. The latest estimate of the average burden per respondent was 70 person-hours. Time required for preparing monitoring reports varies according to the complexity of the filing obligation. Class C agreements have the least burden, and it was estimated to be about 20 person-hours. Class A/B agreements require more detailed data and hence a greater burden. It was estimated that Class B monitoring reports require about 130 person-hours, and Class A reports about 170 person-hours. The latest estimated time per respondent under the record-keeping obligations of the regulation was five person-hours.

Total Annual Burden: The latest reported annual burden on respondents was estimated at 109,750 person-hours: 105,000 person-hours as the filing burden, and 4,750 person-hours as the record-keeping burden.

OMB Approval Number: 3072-0060 (Expires August 31, 2002).

Abstract: Section 9 of the Shipping Act of 1984 requires that the Federal Maritime Commission monitor the practices of controlled carriers to ensure that they do not maintain rates or charges in their tariffs and service contracts that are below a level that is just and reasonable; nor establish, maintain or enforce unjust or unreasonable classifications, rules or regulations in those tariffs or service contracts which result or are likely to result in the carriage or handling of cargo at rates or charges that are below a just and reasonable level. 46 CFR part 565 establishes the method by which the Commission determines whether a particular ocean common carrier is a controlled carrier subject to section 9 of the Shipping Act of 1984. When a government acquires a controlling interest in an ocean common carrier, or when a controlled carrier newly enters a United States trade, the Commission's rules require that such a carrier notify the Commission of these events.

Needs and Uses: The Commission uses these notifications in order to effectively discharge its statutory duty to determine whether a particular ocean common carrier is a controlled carrier and therefore subject to the requirements of section 9 of the Shipping Act of 1984.

Frequency: The submission of notifications from controlled carriers are not assigned to a specific time frame by the Commission; they are submitted as circumstances warrant. The Commission only requires notification when a majority portion of an ocean common carrier becomes owned or controlled by a government, or when a controlled carrier newly begins operation in any United States trade.

Type of Respondents: Controlled carriers are ocean common carriers which are owned or controlled by a government.

Number of Annual Respondents: Although it is estimated that only 5 of the 14 currently-classified controlled carriers may respond in any given year, because this is a rule of general applicability, the Commission considers the number of annual respondents to be 10.

Estimated Time Per Response: The estimated time for compliance is 7 person-hours per year.

Total Annual Burden: The Commission estimates the person-hour burden required to make such notifications at 70 person-hours per year.

OMB Approval Number: 3072-0061 (Expires August 31, 2002).

Abstract: Section 8(f) of the Shipping Act of 1984, 46 U.S.C. app. 1707(f), provides that a marine terminal operator (MTO) may make available to the public a schedule of its rates, regulations, and practices, including limitations of liability for cargo loss or damage, pertaining to receiving, delivering, handling, or storing property at its marine terminal, subject to section 10(d)(1), 46 U.S.C. app. 1709(d)(1), of the Act. The Commission's rules governing MTO schedules are set forth at 46 CFR part 525.

Needs and Uses: The Commission uses information obtained from Form FMC-1 to determine the organization name, organization number, home office address, name and telephone number of the firm's representatives and the location of MTO schedules of rates, regulations and practices, and publisher, should the MTOs determine to make their schedules available to the public, as set forth in section 8(f) of the Shipping Act.

Frequency: This information is collected prior to an MTO's commencement of its marine terminal operations.

Type of Respondents: Persons operating as MTOs.

Number of Annual Respondents: The Commission estimates the respondent universe at 186.

Estimated Time Per Response: The Commission estimates an average of five hours per schedule.

Total Annual Burden: The Commission estimates the total person-hour burden at 930.

OMB Approval Number: 3072-0064 (Expires August 31, 2002).

Abstract: Except with respect to certain specified commodities, section 8(a) of the Shipping Act of 1984, 46 U.S.C. app. 1707(a), requires that each common carrier and conference shall keep open to public inspection, in an automated tariff system, tariffs showing its rates, charges, classifications, rules, and practices between all ports and points on its own route and on any through transportation route that has been established. In addition, individual carriers or agreements among carriers are required to make available in tariff format certain enumerated essential terms of their service contracts. 46 U.S.C. app. 1707(c). The Commission is responsible for reviewing the accessibility and accuracy of automated tariff systems, in accordance with its regulations set forth at 46 CFR part 520.

Needs and Uses: The Commission uses information obtained from Form FMC-1 to ascertain the location of common carrier and conference tariff publications.

Frequency: This information is collected when common carriers or conferences publish tariffs.

Type of Respondents: Persons desiring to operate as common carriers or conferences.

Number of Annual Respondents: The Commission estimates an annual respondent universe of 3000.

Estimated Time Per Response: The time per response averages five person-hours per respondent for Form FMC 1 and tariff publication matters.

Total Annual Burden: The Commission estimates the total person-hour burden at 313,400 person-hours.

OMB Approval Number: 3072-0065 (Expires August 31, 2002).

Abstract: The Shipping Act of 1984, 46 U.S.C. app. 1707, requires service contracts, except those dealing with bulk cargo, forest products, recycled metal scrap, new assembled motor vehicles, waste paper or paper waste, and their related amendments and notices to be filed confidentially with the Commission.

Needs and Uses: The Commission monitors service contract filings for acts prohibited by the Shipping Act of 1984.

Frequency: The Commission has no control over how frequently service contracts are entered into; this is solely a matter between the negotiating parties. When parties enter into a service contract it must be filed with the Commission.

Types of Respondents: Parties that enter into service contracts are ocean common carriers and agreements among ocean common carriers on the one hand, and shippers or shipper's associations on the other.

Number of Annual Respondents: The Commission estimates an annual respondent universe of 155.

Estimated Time Per Response: The time per response ranges from one to eight hours.

Total Annual Burden: The Commission estimates the total person-hour burden at 303,953.

Theodore A. Zook,
Assistant Secretary.

[FR Doc. 02-5358 Filed 3-6-02; 8:45 am]

BILLING CODE 6730-01-P